DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC) announce the following meeting of the aforementioned committee.

Times and Dates:

8:00 a.m.-5:45 p.m., February 25, 2015.

8:00 a.m.-1:00 p.m., February 26, 2015.

Place: CDC, Tom Harkin Global Communications Center, 1600 Clifton Road NE., Building 19, Kent “Oz” Nelson Auditorium, Atlanta, Georgia 30333.

Status: Open to the public, limited only by the space available.

Purpose: The committee is charged with advising the Director, CDC, on the appropriate use of immunizing agents. In addition, under 42 U.S.C. 1396s, the committee is mandated to establish and periodically review and, as appropriate, revise the list of vaccines for administration to vaccine-eligible children through the Vaccines for Children (VFC) program, along with schedules regarding the appropriate periodicity, dosage, and contraindications applicable to the vaccines. Further, under provisions of the Affordable Care Act, at section 2713 of the Public Health Service Act, immunization recommendations of the ACIP that have been adopted by the Director of the Centers for Disease Control and Prevention must be covered by applicable health plans.

Matters for discussion: The agenda will include discussions on: General recommendations; meningococcal vaccines; human papillomavirus vaccines; influenza; novel influenza (H5N1) vaccines, tetanus, diphtheria, and acellular pertussis (Tdap) vaccine; hepatitis vaccines; new hexavalent vaccine work group; yellow fever vaccine; smallpox vaccine in laboratory personnel; and vaccine supply. Recommendation votes are scheduled for general recommendations, meningococcal vaccines, influenza, novel influenza H5N1 vaccine, yellow fever vaccine, smallpox vaccine, and human papillomavirus vaccines. Time will be available for public comment.

Agenda items are subject to change as priorities dictate.

FOR FURTHER INFORMATION CONTACT: Stephanie Thomas, National Center for Immunization and Respiratory Diseases, CDC, 1600 Clifton Road NE., MS-A27, Atlanta, Georgia 30333, telephone 404/639-8836; Email ACIP@CDC.GOV.

Meeting is webcast live via the World Wide Web; for instructions and more information on ACIP please visit the ACIP Web site: http://www.cdc.gov/vaccines/acip/index.html.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-01818 Filed 1-29-15; 8:45 am]

BILLING CODE 4163-18-P